NATIONAL AERONAUTICS AND SPACE ADMINISTRATION

[Notice (04-042)]

NASA Advisory Council, Space Science Advisory Committee; Meeting

AGENCY: National Aeronautics and Space Administration (NASA).

ACTION: Notice of meeting.

SUMMARY: In accordance with the Federal Advisory Committee Act, Pub. L. 92-463, as amended, the National Aeronautics and Space Administration announces a forthcoming meeting of the NASA Advisory Council (NAC), Space Science Advisory Committee (SScAC).

DATES: Thursday, March 25, 2004, 8:30 a.m. to 5 p.m., Friday, March 26, 2004, 8:30 a.m. to 5 p.m.

ADDRESSES: Grand Hyatt at Washington Center, 1000 H Street, NW., Washington, DC 20001.

FOR FURTHER INFORMATION CONTACT: Ms. Marian R. Norris, Code SB, National Aeronautics and Space Administration, Washington, DC 20546, (202) 358-4452.

SUPPLEMENTARY INFORMATION: The meeting will be open to the public up to the capacity of the room. The agenda for the meeting includes the following topics:

—Associate Administrator's Program Overview Status

—Division Directors' Reports

—Subcommittee Reports and Recommendations

—Explorer Program Solicitation Options

—2006 Strategic Planning Process and Schedule

—Sounding Rockets Status

It is imperative that the meeting be held on these dates to accommodate the scheduling priorities of the key participants. Visitors to the meeting will be requested to sign a visitor's register.

Al Condes,
Acting Assistant Administrator for External Relations, National Aeronautics and Space Administration.

[FR Doc. 04-5393 Filed 3-9-04; 8:45 am]

BILLING CODE 7510-01-P